DEPARTMENT OF COMMERCE

International Trade Administration

[A-428-801]

Ball Bearings and Parts Thereof from Germany: Notice of Court Decision Not in Harmony

AGENCY: Import Administration, International Trade Administration, Department of Commerce.

SUMMARY: On June 29, 2007, the United States Court of International Trade affirmed the Department of Commerce's redetermination on remand of the final results of the administrative review of the antidumping duty order on ball bearings and parts thereof from Germany. See Paul Mueller Industrie GmbH & Co. v. United States, Court No. 04-00522, slip op. 07-100 (CIT 2007) (Paul Mueller). The Department is now issuing this notice of court decision not in harmony with the Department's determination.

EFFECTIVE DATE: August 2, 2007.

FOR FURTHER INFORMATION CONTACT: David Dirstine or Richard Rimlinger, AD/CVD Operations, Office 5, Import Administration, U.S. Department of Commerce, 14th Street and Constitution Avenue, NW, Washington, DC 20230; telephone: (202) 482-4033 or (202) 482-4477, respectively.

SUPPLEMENTARY INFORMATION:

Background

On September 15, 2004, the Department of Commerce (the Department) published the final results of the administrative review of the antidumping duty order on ball bearings and parts thereof from Germany for the period May 1, 2002, through April 30, 2003. See Antifriction Bearings and Parts Thereof From France, Germany, Italy, Japan, Singapore, and the United Kingdom: Final Results of Antidumping Duty Administrative Reviews, Rescission of Administrative Reviews in Part, and Determination To Revoke Order in Part, 69 FR 55574 (September 15, 2004) (Final Results). The Final Results were amended in Ball Bearings and Parts Thereof from Germany; Amended Final Results of Antidumping Duty Administrative Review, 69 FR 63507 (November 2, 2004) (Amended Final Results). Paul Mueller Industrie GmbH (Paul Mueller) and Timken US Corporation (Timken) filed lawsuits challenging the Final Results as amended by the Amended Final Results. The Department requested a voluntary remand on two issues. On May 26, 2006, the United States Court of International Trade (CIT) granted the Department's request and ordered the Department to address two items: (1) correct a ministerial error involving a billing adjustment reported by Paul Mueller for one home-market transaction and to recalculate its antidumping margin accordingly; (2) explain its treatment of Paul Mueller's inventory carrying costs.

In accordance with the CIT's remand order in Paul Mueller v. United States, 435 F. Supp. 2d at 1241, 1246-1247 (CIT 2006), the Department filed its redetermination on remand of the final results (remand results) on September 13, 2006. In its redetermination, the Department corrected the ministerial error and made a change to its treatment of the inventory carrying costs to ensure that home-market and U.S. inventory carrying costs were calculated on a consistent basis. On June 29, 2007, the CIT affirmed the Department's remand results. The CIT's decision was not made publicly available until July 17, 2007, when the Court entered its judgment. See Paul Mueller, slip op. 07-100.

Decision Not in Harmony

By affirming the remand results, the CIT recognized that the Department had made a ministerial error in its calculation of a billing adjustment for Paul Mueller and that its initial calculations of inventory carrying costs for Paul Mueller's home-market and U.S. inventory carrying costs were not made on a consistent basis.

The changes to our calculations with respect to Paul Mueller resulted in a change in the weighted-average margin for ball bearings and parts thereof from 0.44 percent to 0.46 percent for the period of review. Accordingly, absent an appeal or, if appealed, upon a final and conclusive court decision in this action, we will amend our final results of this review to reflect the recalculation of the margin for Paul Mueller.

Suspension of Liquidation

The United States Court of Appeals for Federal Circuit (CAFC) held that the Department must publish notice of a decision of the CIT or the CAFC which is not in harmony with the Department's determination. See The Timken Company v. United States, 893 F.2d 337, 341 (CAFC 1990). Publication of this notice fulfills that obligation. The CAFC also held that, in such a case, the Department must suspend liquidation until there is a “conclusive” decision in the action. Id. Therefore, the Department must suspend liquidation pending the expiration of the period to appeal the CIT's June 29, 2007, decision or, if appealed, pending a final and conclusive court decision.

Because entries of ball bearings and parts thereof from Germany produced and exported to the United States by Paul Mueller are currently being suspended pursuant to the court's injunction order in effect, the Department does not need to order U.S. Customs and Border Protection to suspend liquidation of affected entries. The Department will not order the lifting of the suspension of liquidation on entries of ball bearings and parts thereof made during the review period before a court decision in this lawsuit becomes final and conclusive.

We are issuing and publishing this notice in accordance with section 516A(c)(1) of the Tariff Act of 1930, as amended.

Dated: July 24, 2007.
David M. Spooner,
Assistant Secretary for Import Administration.

[FR Doc. E7-15031 Filed 8-1-07; 8:45 am]

BILLING CODE 3510-DS-DS